DEPARTMENT OF ENERGY

Notice of Availability of Report on the Communications Requirements of Smart Grid Technologies

AGENCY: Office of the General Counsel, Department of Energy.

ACTION: Notice of availability.

SUMMARY: Through this notice, the Department of Energy (DOE) announces the availability of its report entitled, “Communications Requirements of Smart Grid Technologies.” In this report, DOE sets forth recommendations and observations on current and potential communications requirements of the Smart Grid, as well as the types of networks and communications services that may be used. DOE also provides a comprehensive summary of the comments received in response to a Request for Information and during a public meeting conducted during the preparation of the report. This report responds to recommendations for DOE set forth in the National Broadband Plan authored by the Federal Communications Commission at the direction of Congress.

ADDRESSES: Copies of the report, comments received and the transcript of the public meeting are available for public inspection at the U.S. Department of Energy, Forrestal Building, 1000 Independence Avenue, SW., Room 1G-051, Washington, DC 20585-0121. Public inspection can be conducted between 9 a.m. and 4 p.m., Monday through Friday, except Federal holidays. These documents can also be accessed online at http://www.gc.energy.gov/1592.htm.

FOR FURTHER INFORMATION CONTACT: Maureen C. McLaughlin, Senior Legal Advisor to the General Counsel, U.S. Department of Energy, Office of the General Counsel, Forrestal Building, 1000 Independence Avenue, SW., Washington, DC 20585-0121. Tel.: (202) 586-5281. E-mail: broadband@hq.doe.gov.

For Media Inquiries, you may contact Jen Stutsman at (202) 586-4940. E-mail: Jen.Stutsman@hq.doe.gov.

SUPPLEMENTARY INFORMATION: On May 11, 2010, DOE published a Request for Information (RFI) seeking comments and information from interested parties to assist DOE in understanding current and future communications needs of the Smart Grid and how they may be met. 75 FR 26206. The RFI sought to collect information and open a dialogue about the communications technologies required to realize the many potential benefits of the Smart Grid, as well as the types of networks and communications services that may be used to meet these requirements. To gather additional data, DOE also published a notice in the Federal Register announcing a public meeting to discuss the issues presented in the RFI. 75 FR 33611 (June 14, 2010). The public meeting, held on June 17, 2010, provided another forum in which interested parties could provide comments and information, as well as engage in constructive dialogue with other interested parties.

In developing its report entitled, “Communications Requirements of Smart Grid Technologies,” DOE considered all of the comments and information received during the public comment process, as well as other information pertaining to communications requirements of the Smart Grid. In this report, DOE discusses the results of DOE's efforts to collect and analyze diverse perspectives on the current and future communications requirements of the Smart Grid.

Issued in Washington, DC, on October 5, 2010.
Scott Blake Harris,
General Counsel.

[FR Doc. 2010-25541 Filed 10-8-10; 8:45 am]

BILLING CODE 6450-01-P